DEPARTMENT OF HOMELAND SECURITY

Coast Guard

[USCG-2006-25312]

Meeting of the Office of Boating Safety's Recreational Boating Safety Strategic Planning Panel

AGENCY: Coast Guard, DHS.

ACTION: Notice of meeting.

SUMMARY: The Coast Guard's Office of Boating Safety is sponsoring a panel of representatives of the recreational boating community to discuss strategic planning goals, objectives and strategies that the Coast Guard may use to improve recreational boating safety. This meeting is open to the public.

DATES: The meeting will occur on Saturday and Sunday, July 22 and 23, 2006, from 8:30 a.m. to 5 p.m.

ADDRESSES: This meeting will occur at the Hyatt Regency Hotel, 2799 Jefferson Davis Highway, Arlington, VA. This notice is available on the Internet at http://dms.dot.gov and at http://uscgboating.org.

FOR FURTHER INFORMATION CONTACT: Jeff Ludwig, Office of Boating Safety, U.S. Coast Guard, telephone 202-267-0979, fax 202-267-4285. If you have questions on viewing material in the docket, call Renee V. Wright, Program Manager, Docket Operations, Department of Transportation, telephone 202-493-0402.

SUPPLEMENTARY INFORMATION: At the October 2004 meeting of the National Boating Safety Advisory Council (NBSAC), the Office of Boating Safety proposed to assemble a Goal-Setting Recommendation Panel. NBSAC endorsed this proposal. To facilitate this, the Coast Guard invited representatives of the recreational boating community to participate on this panel.

The Coast Guard held the meeting on February 8 and 9, 2005, in Arlington, VA. The panel considered, analyzed, and proposed recreational boating safety (RBS) performance goals that can be supported by the government, industry, and the boating public. A representative of the panel presented its conclusions at the April 2005 NBSAC meeting. Minutes of the panel's February 2005 meeting may be obtained from the person listed above under FOR FURTHER INFORMATION CONTACT.

The Coast Guard held a second meeting of the panel on October 8 and 9, 2005. The panel considered, analyzed, and proposed recreational boating safety program objectives related to the new RBS Program goals. A representative of the panel presented its conclusions at the November 2005 NBSAC meeting. Minutes of the panel's October 2005 meeting may be obtained from the person listed above under FOR FURTHER INFORMATION CONTACT.

The Coast Guard held a third meeting of the panel on February 4 through 6, 2006. The panel considered, analyzed, and proposed recreational boating safety program strategies related to the new RBS Program goals and objectives. A representative of the panel presented its conclusions at the April 2006 NBSAC meeting. Minutes of the panel's February 2006 meeting may be obtained from the person listed above under FOR FURTHER INFORMATION CONTACT.

At the fourth meeting of the panel on July 22 and 23, the panel will further consider and analyze the proposed strategies to support the RBS Program goals and objectives previously developed. A representative of the panel will present its conclusions at the October 2006 NBSAC meeting. We will also prepare minutes of the fourth meeting. You may obtain them from the person listed above under FOR FURTHER INFORMATION CONTACT.

Procedural

The meeting is open to the public. Please note that the meeting may close early if all business is finished.

Information on Services for Individuals With Disabilities

For information on facilities or services for individuals with disabilities or to request special assistance at the meeting, contact the person listed under FOR FURTHER INFORMATION CONTACT as soon as possible.

Dated: July 10, 2006.
B.M. Salerno,
Rear Admiral, U.S. Coast Guard, Director of Inspections and Compliance.

[FR Doc. E6-11105 Filed 7-13-06; 8:45 am]

BILLING CODE 4910-15-P